ENVIRONMENTAL PROTECTION AGENCY

[OECA-2004-0016; FRL-7851-3]

Agency Information Collection Activities; Submission for OMB Review and Approval; Comment Request; NESHAP for Petroleum Refineries (Renewal), ICR Number 1692.05, OMB Number 2060-0340

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on December 31, 2004. Under OMB regulations, the Agency may continue to conduct or sponsor the collection of information while this submission is pending at OMB. This ICR describes the nature of the information collection and its estimated burden and cost.

DATES: Additional comments may be submitted on or before January 20, 2005.

ADDRESSES: Submit your comments, referencing docket ID number OECA-2004-0016, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Dan Chadwick, Compliance Assessment and Media Programs Division, Office of Compliance, Mail Code 2223A, Environmental Protection Agency, 1200 Pennsylvania Avenue, NW., Washington, DC 20460; telephone number: (202) 564-7054; fax number: (202) 564-0050; e-mail address: chadwick.dan@epamail.epa.gov.

SUPPLEMENTARY INFORMATION: EPA has submitted the following ICR to OMB for review and approval according to the procedures prescribed in 5 CFR 1320.12. On May 25, 2004, (69 FR 29718), EPA sought comments on this ICR pursuant to 5 CFR 1320.8(d). EPA received no comments.

EPA has established a public docket for this ICR under Docket ID No. OECA-2004-0016, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Petroleum Refineries (40 CFR part 63, subpart CC) (Renewal).

Abstract: The National Emission Standards for Hazardous Air Pollutants (NESHAP) From Petroleum Refineries, published at 40 CFR part 63, subpart CC, were proposed on July 15, 1994, and promulgated on August 18, 1995. These regulations apply to the following existing and new petroleum refining process units and emission points located at refineries that are major sources of HAPs: miscellaneous process vents, storage vessels, wastewater streams and treatment operations, equipment leaks, gasoline loading racks, and marine vessel loading operations. These regulations also apply to storage vessels and equipment leaks associated with bulk gasoline terminals or pipeline breakout stations that are related to an affected petroleum refinery. New facilities include those that commenced construction or reconstruction after the date of proposal. This information is being collected to assure compliance with 40 CFR part 63, subpart CC.

Respondents are required to submit one-time reports of start of construction, anticipated and actual start-up dates, and physical or operational changes to existing facilities. In addition, respondents must submit three types of reports: (1) Notification of Compliance Status, (2) Periodic Reports, and (3) Other event triggered reports. The Notification of Compliance Status is submitted to provide the information necessary to demonstrate that compliance has been achieved. The Periodic Reports provide information on monitored control device parameters when they are outside of established ranges and information on instances where inspections revealed problems. In addition, respondents are required to comply with the recordkeeping and reporting requirements contained in the following rules: either 40 CFR part 61, subpart VV or 40 CFR part 63, subpart H for equipment leaks (which include an initial report and semiannual summaries of leak detection and repair); 40 CFR part 61, subpart FF for wastewater operations; portions of 40 CFR part 63, subpart R for gasoline loading racks; and 40 CFR part 63, subpart Y for marine tank vessel loading operations. All records are to be maintained at the facility for at least 5 years.

An agency may not conduct or sponsor, and a person is not required to respond to, a collection of information unless it displays a currently valid OMB Control Number. The OMB Control Numbers for EPA's regulations are listed in 40 CFR part 9 and 48 CFR Chapter 15, and are identified on the form and/or instrument, if applicable.

Burden Statement: The annual public reporting and recordkeeping burden for this collection of information is estimated to average 839 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Petroleum refineries that are major sources of HAP emissions.

Estimated Number of Respondents: 134.

Frequency of Response: Annual, Semiannual, On Occasion, Quarterly.

Estimated Total Annual Hour Burden: 410,054 hours.

Estimated Total Annual Costs: $26,163,236, which includes $0 annual capital/startup costs, $0 annual O&M costs, and $26,163,236 annual labor costs.

Changes in the Estimates: There is a decrease of 59,376 hours in the total estimated burden currently identified in the OMB Inventory of Approved ICR Burdens. This adjustment decrease in burden is due to several factors, including: a decrease in the number of respondents, the removal of capital/startup costs resulting from performance tests, and revisions to the approach to calculating costs for newly subject facilities.

Dated: December 14, 2004.
Oscar Morales,
Director, Collection Strategies Division.

[FR Doc. 04-27889 Filed 12-20-04; 8:45 am]

BILLING CODE 6560-50-P